DEPARTMENT OF COMMERCE

International Trade Administration

[A-570-176]

Certain Low Speed Personal Transportation Vehicles From the People's Republic of China: Final Affirmative Determination of Sales at Less Than Fair Value and Final Affirmative Determination of Critical Circumstances, in Part

AGENCY: Enforcement and Compliance, International Trade Administration, Department of Commerce.

SUMMARY: The U.S. Department of Commerce (Commerce) determines that certain low speed personal transportation vehicles (LSPTVs) from the People's Republic of China (China) are being, or are likely to be, sold in the United States at less than fair value (LTFV) during the period of investigation (POI) October 1, 2023, through March 31, 2024.

DATES: Applicable June 23, 2025.

FOR FURTHER INFORMATION CONTACT: Jerry Xiao or Gorden Struck, AD/CVD Operations, Office II, Enforcement and Compliance, International Trade Administration, U.S. Department of Commerce, 1401 Constitution Avenue NW, Washington, DC 20230; telephone: (202) 482-2273 or (202) 482-8151, respectively.

SUPPLEMENTARY INFORMATION:

Background

On January 30, 2025, Commerce published the Preliminary Determination in the Federal Register and invited interested parties to comment.¹ For a complete description of the events that followed the Preliminary Determination, see the Issues and Decision Memorandum.² The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

¹ See Certain Low Speed Personal Transportation Vehicles From the People's Republic of China: Preliminary Affirmative Determination of Sale at Less-Than-Fair-Value Investigation, Preliminary Affirmative Determination of Critical Circumstances, Postponement of Final Determination and Extension of Provisional Measures, 90 FR 8517 (January 30, 2025) (Preliminary Determination), and accompanying Preliminary Decision Memorandum (PDM).

² See Memorandum, “Issues and Decision Memorandum for the Final Affirmative Determination in the Less-Than-Fair-Value Investigation of Certain Low Speed Personal Transportation Vehicles From the People's Republic of China,” dated concurrently with, and hereby adopted by, this notice (Issues and Decision Memorandum).

Scope of the Investigation

The products covered by this investigation are LSPTVs from China. For a complete description of the scope of this investigation, see Appendix I.

Scope Comments

In the Preliminary Scope Memorandum, we set aside a period of time for parties to raise issues regarding product coverage (i.e., scope) in scope-specific case briefs or other written comments on scope issues.³ Between February 27 and March 6, 2025, Commerce received a scope case briefs from the American Personal Transportation Vehicle Manufacturers Coalition (the petitioner) and Star EV Corporation (Star EV), and rebuttal briefs from Wink Motors, Inc. (Wink), Nivel Parts and Manufacturing Co., LLC (Nivel), and the petitioner.⁴ For a summary of the product coverage comments and rebuttal responses submitted to the record for this final determination, and accompanying discussion and analysis of all comments timely received, see the Final Scope Memorandum.⁵ In the Final Scope Memorandum, Commerce determined that it is modifying the scope language as it appeared in the Initiation Notice. See Appendix I.

³ See Memorandum, “Less-Than-Fair-Value and Countervailing Duty Investigations of Certain Low Speed Personal Transportation Vehicles from the People's Republic of China: Preliminary Scope Decision Memorandum,” dated January 23, 2025 (Preliminary Scope Decision Memorandum).

⁴ See Petitioner's Letter, “Scope Case Brief,” dated February 27, 2025; see also Star EV's Letter, “Scope Brief,” dated February 27, 2025; Wink's Letter, “Rebuttal Case Brief to Petitioner's Scope Case Brief of February 27, 2025,” dated March 6, 2025; Nivel's Letter, “Scope Rebuttal Brief,” dated March 6, 2025; and Petitioner's Letter, “Scope Rebuttal Brief,” dated March 6, 2025.

⁵ See Memorandum, “Less-Than-Fair-Value and Countervailing Duty Investigations of Certain Low Speed Personal Transportation Vehicles from the People's Republic of China: Final Scope Decision Memorandum,” dated concurrently with this notice (Final Scope Decision Memorandum).

Verification

As provided in section 782(i) of the Tariff Act of 1930, as amended (the Act), between March 24 and April 4, 2025, Commerce conducted verification of the sales and factors of production information submitted by Guangdong Lvtong New Energy Electric Vehicle Technology Co., Ltd. (Guangdong Lvtong) and Xiamen Dalle New Energy Automobile Co., Ltd. (Xiamen Dalle) (collectively, the respondents).⁶ We used Commerce's standard verification procedures, which include an examination of relevant accounting records and original source documents provided by the respondents.

⁶ See Memoranda, “Verification of the Questionnaire Responses of Guangdong Lvtong New Energy Electric Vehicle Technology Co., Ltd.,” dated April 30, 2025; and “Xiamen Dalle New Energy Automobile Co., Ltd.,” dated May 2, 2025.

Analysis of Comments Received

The issues raised in the case and rebuttal briefs by the interested parties in this investigation are discussed in the Issues and Decision Memorandum. For a list of the issues raised and addressed in the Issues and Decision Memorandum, see Appendix III.

Final Affirmative Determination of Critical Circumstances, in Part

Commerce preliminarily determined, pursuant to section 733(e)(1) of the Act, and 19 CFR 351.206(c), that critical circumstances exist with respect to imports of LSPTVs from China for both mandatory respondents, Guangdong Lvtong and Xiamen Dalle, and for the China-wide entity. In this final determination, we find that no critical circumstances exist for Xiamen Dalle. We continue to find that critical circumstances exist for imports of LSPTVs from China with respect to Guangdong Lvtong, the non-examined companies eligible for a separate rate, and the China-wide entity, pursuant to section 735(a)(3)(A) and (B) of the Act and 19 CFR 351.206.⁷

⁷ See Issues and Decision Memorandum at Comment 1.

Changes Since the Preliminary Determination

Based on our review and analysis of the information received during verification and comments received from interested parties for this final determination, we made certain changes to the estimated weighted-average dumping margins for Guangdong Lvtong and Xiamen Dalle. For a discussion of these changes, see the Issues and Decision Memorandum.

Use of Adverse Facts Available (AFA)

Consistent with the Preliminary Determination,⁸ Commerce continues to find, pursuant to sections 776(a) and (b) of the Act, that the use of facts otherwise available, with adverse inferences, is warranted in determining the dumping rate for the China-wide entity. In the Preliminary Determination, we corroborated the highest petition margin by comparing the highest petition margin to the mandatory respondents' transaction-specific margins and found the petition margin to be within range of the highest calculated transaction-specific dumping margins.⁹ There is no new information on the record that would cause us to reconsider our decision in the Preliminary Determination. Thus, we made no changes to our analysis for the China-wide entity. We are assigning a rate of 478.09 percent, which is the highest rate alleged in the petition, to the China-wide entity.¹⁰ For a full description of the methodology underlying Commerce's final determination, see the Issues and Decision Memorandum.

⁸ See Preliminary Determination PDM at 17-20.

⁹ Id. at 22.

¹⁰ Id. at 22-23; see also Memoranda, “Analysis for Guangdong Lvtong for the Final Determination of the Investigation of Certain Low Speed Personal Transportation Vehicles from the People's Republic of China,” and “Analysis for Xiamen Dalle for the Final Determination of the Investigation of Certain Low Speed Personal Transportation Vehicles from the People's Republic of China,” dated concurrently with, and hereby adopted by, this notice.

Separate Rate Companies

We received comments ¹¹ on our preliminary separate rate determinations.¹² Based on our analysis of the comments received, our preliminary determination with respect to separate rate eligibility continues to be unchanged in the final determination.¹³

¹¹ See Issues and Decision Memorandum at Comment 7.

¹² See Preliminary Determination PDM at 16-19.

¹³ See Issues and Decision Memorandum at Comment 7 for our continued denial of separate rate to Anhui Huaxin Electric Technology Co., Ltd.

Combination Rates

Consistent with the Preliminary Determination, and Policy Bulletin 05.1,¹⁴ Commerce calculated exporter/producer combination rates for the respondents that are eligible for a separate rate, including the mandatory respondents Guangdong Lvtong and Xiamen Dalle.

¹⁴ See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

Final Determination

Commerce determines that the following estimated weighted-average dumping margins exist for the period October 1, 2023, through March 31, 2024:

Exporter | Producer | Weighted-average dumping margin (percent) | Cash deposit rate (adjusted for subsidy offsets) (percent)
Guangdong Lvtong New Energy Electric Vehicle Technology Co., Ltd | Guangdong Lvtong New Energy Electric Vehicle Technology Co., Ltd | 119.39 | 119.33
Xiamen Dalle New Energy Automobile Co., Ltd | Xiamen Dalle New Energy Automobile Co., Ltd | 312.31 | 312.31
Companies Eligible for a Separate Rate (see Appendix IV) | 291.04 | 291.01
China-Wide Entity | * 478.09 | 478.09
* This rate is based on facts available with adverse inferences.

Disclosure

Commerce intends to disclose the calculations performed in connection with this final determination within five days of any public announcement or, if there is no public announcement, within five days of the date of publication of this notice in the Federal Register in accordance with 19 CFR 351.224(b).

Continuation of Suspension of Liquidation and Cash Deposit Requirements

In accordance with section 735(c)(1)(B) of the Act, we will instruct U.S. Customs and Border Protection (CBP) to continue to suspend liquidation of all appropriate entries of subject merchandise, as described in Appendix I of this notice, which were entered, or withdrawn from warehouse, for consumption on or after January 30, 2025, the date of publication in the Federal Register of the Preliminary Determination.

Section 733(e)(2) of the Act provides that, given an affirmative determination of critical circumstances, any suspension of liquidation shall apply to unliquidated entries of subject merchandise entered, or withdrawn from warehouse, for consumption on or after the later of: (a) the date which is 90 days before the date on which the suspension of liquidation was first ordered; or (b) the date on which notice of initiation of the investigation was published. Commerce finds that critical circumstances exist for imports of subject merchandise produced or exported by Guangdong Lvtong, the non-examined separate rate companies, i.e., exporters, and the China-wide entity. In accordance with section 733(e)(2)(A) of the Act, the suspension of liquidation shall apply to unliquidated entries of shipments of subject merchandise from the exporters identified in this paragraph that were entered, or withdrawn from warehouse, for consumption on or after November 1, 2024, which is 90 days before the publication of the Preliminary Determination. Pursuant to section 735(c)(1)(B)(ii) of the Act and 19 CFR 351.210(d), upon the publication of this notice, Commerce will instruct CBP to require a cash deposit for estimated antidumping duties for appropriate entries.

To determine the antidumping duty cash deposit rate, Commerce normally adjusts the estimated weighted-average dumping margin by the amount of domestic subsidy pass-through and export subsidies determined in a companion countervailing duty (CVD) proceeding. Accordingly, where Commerce has made a final affirmative determination of countervailable export subsidies, Commerce offsets the estimated weighted-average dumping margin by the appropriate CVD rate(s) for Guangdong Lvtong and the non-examined separate rate companies. Commerce has continued to adjust the cash deposit rate for export subsidies found in the companion CVD investigation by the appropriate export subsidy rate as indicated in the above chart. However, the imposition of provisional measures in the companion CVD case has been discontinued; ¹⁵ therefore, we are instructing CBP to collect cash deposits based on the unadjusted producer/exporter-specific estimated weighted-average dumping margin. If the U.S. International Trade Commission (ITC) makes a final affirmative determination of injury due to both dumping and subsidies, then the cash deposit rate will be revised effective on the date of the imposition of final measures, i.e., the date of publication of the ITC's final affirmative determination in the Federal Register, to be the producer/exporter-specific estimated weighted-average dumping margin adjusted for export subsidies and domestic subsidy pass-through, as appropriate.

¹⁵ See Certain Low Speed Personal Transportation Vehicles from the People's Republic of China: Preliminary Affirmative Countervailing Duty Determination, Preliminary Affirmative Determination of Critical Circumstances, in Part, and Alignment of Final Determination With Final Antidumping Duty Determination, 89 FR 96942 (December 6, 2024), as amended in Certain Low Speed Personal Transportation Vehicles from the People's Republic of China: Amended Preliminary Determination of Countervailing Duty Investigation, 90 FR 9892 (February 19, 2025); see also section 703(d) of the Act, which states that the provisional measures may not be in effect for more than four months, which in the companion CVD case is 120 days after the publication of the preliminary determination, or April 5, 2025 (i.e., last day provisional measures are in effect).

Commerce will instruct CBP to require the following cash deposits for estimated antidumping duties for all appropriate entries: (1) for the producer/exporter combinations listed in the table above, the applicable cash deposit rate will be equal to the estimated weighted-average dumping margin listed in the above table for that combination, appropriately adjusted for export subsidies; (2) for all combinations of Chinese producers/exporters of the merchandise under consideration that have not established eligibility for a separate rate, the cash deposit rate will be equal to the estimated weighted-average dumping margin listed for the China-wide entity in the table above, appropriately adjusted for export subsidies; and (3) for all third-country exporters of the merchandise under consideration that are not listed in the table above, the cash deposit rate will be equal to the estimated weighted-average dumping margin for the China-wide entity, appropriately adjusted for export subsidies.

These suspension of liquidation instructions and cash deposit requirements will remain in effect until further notice.

Certification Requirements

With this final determination, Commerce has imposed certification requirements for certain entries of LSPTV components (i.e., Chinese-origin seat assemblies, steering column assemblies, suspension systems, plastic cowlings, or motors (regardless of whether electric or gas powered)) that could be used to produce LSPTVs or subassembly/rolling chassis thereof. Commerce has determined it appropriate to require that entries made on or after the publication of this final determination be certified with the importer certification detailed at Appendix II to this notice. Entries made within 15 days of publication of this final determination in the Federal Register must be certified as soon as applicable, but no later than 45 days after the date of the publication of this determination. Entries made after 16 days of publication of this final determination in the Federal Register must be certified at the time of entry summary filing.

The importer, or the importer's agent, must submit the importer's certification and supporting documents (i.e., bill of lading and commercial invoice) to CBP as part of the entry process by uploading them into the document imaging system in CBP's Automated Commercial Environment. Consistent with CBP's procedures, importers shall identify entries required to have certifications by using importer's additional declaration (record 54) AD/CVD Certification Designation (type code 06) when filing entry summary.

Additionally, the claims made in the importer's certification and supporting documentation are subject to verification by Commerce and/or CBP. Importers are required to maintain the certifications and supporting documentation for the later of: (1) the date that is five years after the latest entry date of the entries covered by the certification; or (2) the date that is three years after the conclusion of any litigation in United States courts regarding such entries.

If it is determined that an importer has not met the certification and/or related documentation requirements for certain entries, Commerce intends to instruct CBP to suspend all unliquidated entries for which the importer has failed to supply this information and require the posting of a cash deposit on the total entered value of LSPTVs equal to the cash deposit rate for the China-wide entity in effect at the time of the entry.

ITC Notification

In accordance with section 735(d) of the Act, Commerce will notify the ITC of this final affirmative determination of sales at LTFV. Because the final determination in this investigation is affirmative, in accordance with section 735(b)(2) of the Act, the ITC will determine, within 45 days, whether the domestic industry in the United States is materially injured, or threated with material injury, by reason of import of LSPTVs from China. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section above. In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance.

Administrative Protective Order

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: June 16, 2025.
Abdelali Elouaradia,
Deputy Assistant Secretary for Enforcement and Compliance.

Appendix I

Scope of the Investigation

The merchandise covered by this investigation consists of certain low speed personal transportation vehicles (LSPTVs) and subassemblies thereof, whether finished or unfinished and whether assembled or unassembled, with or without tires, wheels, seats, steering columns and steering wheels, canopies, roofs, or batteries. LSPTVs meeting this description are generally open-air vehicles, i.e., may have a permanent roof, may have a permanent windshield, and may be covered with temporary sides, with a minimum of four wheels, a steering wheel, a traditional side-by-side or in-line row seating arrangement (i.e., non-straddle), foot operated accelerator and brake pedals, and a gross vehicle weight of no greater than 5,500 pounds. Vehicles with a roof and four sides with doors and windows permanently integrated into the chassis at the time of production (e.g., the sides are welded to the chassis and roof) are not subject to the order.

The main power source for subject LSPTVs is either an electric motor and battery (including but not limited to lithium-ion batteries, lithium phosphate batteries, lead acid batteries, and absorbed glass mat batteries) or a gas-powered internal combustion engine. Subject LSPTVs may be described as golf carts, golf cars, low speed vehicles, personal transportation vehicles, or light utility vehicles.

LSPTVs subject to this investigation should have a maximum top nameplate speed of no greater than 25 miles per hour as required by federal, state, and local laws and regulations. Subject LSPTVs with a maximum top nameplate speed greater than 20 miles per hour normally must comply with the U.S. Department of Transportation's Federal Motor Vehicle Safety Standards for Low-Speed Vehicles set forth in 49 CFR 571.500. LSPTVs that otherwise meet the physical description of this scope but are not certified under 49 CFR 571.500 and are not certified under other sections of subpart B of the Federal Motor Vehicle Safety Standards (49 CFR part 571), are not excluded from the investigation. LSPTVs that are certified under both 49 CFR 571.500 and other sections of subpart B of the Federal Motor Vehicle Safety Standards remain subject to the scope of the investigation. Subject LSPTVs that have a maximum top nameplate speed of less than 25 miles per hour may be certified to the SAE International (SAE) standards SAE J2258 and SAE J2358. LSPTVs that have a maximum top nameplate speed of less than 20 miles per hour may also be certified to the Outdoor Power Equipment Institute (OPEI) standards OPEI Z130.1 and OPEI Z135. The SAE and OPEI standards provided above are for reference purposes only, and whether merchandise is certified to those standards is not dispositive of whether that merchandise is subject to this investigation.

An unfinished and/or unassembled LSPTV subject to this investigation covers at a minimum a subassembly, also known as a “rolling chassis,” which is typically comprised of, but not limited to, a frame or body with front and/or rear suspension components (such as arms, springs, axles, spindles, and shafts) installed and powertrain components (including either an electric motor or a gas-powered internal combustion engine) installed or ready for installation.

When imported together with a rolling chassis subject to the investigation, other LSPTV components, such as batteries, bumpers, wheel and tire assemblies, cowlings, fenders, grills, kick plates, steering column and steering wheel assemblies, dash assembly, seat assemblies, pedal assemblies, brake assemblies, canopy or roof assemblies, temporary rain enclosures, windshields, mirrors, headlights, taillights, lighting systems, or storage—whether assembled or unassembled, whether as part of a kit or not, and whether or not accompanied by additional components—constitute part of an unfinished and/or unassembled LSPTV that is subject to the investigation. The inclusion of other products, components, or assemblies not described here does not remove the product from the scope.

Subject LSPTVs and subassemblies are covered by the scope of this investigation whether or not they are accompanied by other parts. This investigation covers all LSPTVs and subassemblies meeting the physical description of the scope, regardless of overall length, width, or height. The following individual components of Chinese origin that are entered by themselves on separate bills of lading (i.e., not on the same bills of lading as Chinese-origin subject subassemblies/rolling chassis) are not subject to the investigation when accompanied by the appropriate certification: seat assemblies, steering columns, suspension systems, plastic cowlings, and electric and gas-powered motors suitable for use in LSPTV. When entered with (i.e., on the same bill of lading as) a Chinese-origin LSPTV or subject rolling chassis, whether finished or unfinished and whether assembled or unassembled, or when entered without the appropriate certification, these components are subject merchandise.

LSPTVs and subassemblies subject to this investigation include those that are produced in the subject country whether assembled with other components in the subject country or in a third country. Processing or completion of finished and unfinished LSPTVs and subassemblies either in the subject country or in a third country does not remove the product from the scope.

Specifically excluded from the scope of this investigation are all-terrain vehicles (which typically have straddle seating and are steered by handlebars), multipurpose off-highway utility vehicles (which have a maximum top nameplate speed of greater than 25 miles per hour), and recreational off-highway vehicles (which have a maximum top nameplate speed of greater than 30 miles per hour). Also excluded from the scope are go-karts, electric scooters, golf trolleys, and mobility aids (which include power wheelchairs and scooters which are used for the express purpose of enabling mobility for a person).

The LSPTVs subject to this investigation are typically classified in the Harmonized Tariff Schedule of the United States (HTSUS) at subheading 8703.10.5030. LSPTVs subject to the investigation may also enter under HTSUS subheading 8703.10.5060 and 8703.90.0100. The LSPTV subassemblies that are subject to the investigation typically enter under HTSUS subheadings 8706.00.1540 and 8707.10.0040. The HTSUS subheadings are provided for convenience and customs purposes only, and the written description of the merchandise subject to the investigation is dispositive.

Appendix II

Importer Certification

I hereby certify that:

A. My name is {NAME of IMPORTING COMPANY OFFICIAL} and I am an official of

{NAME OF IMPORTING COMPANY}, located at {ADDRESS OF IMPORTING

COMPANY}.

B. I have direct personal knowledge of the facts regarding the importation into the Customs territory of the United States of the products that entered under entry summary number(s), identified below, and are covered by this certification. “Direct personal knowledge” refers to facts the certifying party is expected to have in its own records.

C. If the importer is acting on behalf of the first U.S. customer, include the following sentence as paragraph C of this certification:

The product(s) covered by this certification was/were imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

D. The product(s) covered by this certification were shipped to {NAME OF PARTY IN THE UNITED STATES TO WHOM THE MERCHANDISE WAS FIRST SHIPPED}, located at {U.S. ADDRESS TO WHICH MERCHANDISE WAS SHIPPED}.

E. This certification applies to the following entries (repeat this block as many times as necessary):

Entry Summary #:

Entry Summary Line Item #:

F. I am importing Chinese-origin seat assemblies, steering column assemblies, suspension systems, plastic cowlings, or motors (regardless of whether electric or gas powered) that could be used to produce low speed personal transportation vehicles (LSPTVs) or subassemblies thereof.

(i) I certify that the parts (i.e., Chinese-origin seat assemblies, steering column assemblies, suspension systems, plastic cowlings, or motors) that I am importing are not being imported together with subject subassemblies (i.e., rolling chassis) or subject unfinished LSPTVs. Imported together means on the same bill of lading. Parts on the same bill of lading are considered to be imported together even if they are entered in different containers, separate entries, or on different invoices. A subassembly (i.e., rolling chassis) is subject to the Order if it meets the definition of a rolling chassis as described by the scope of this order.

(ii) I also certify that neither my company nor a related entity will assemble these parts with a subject subassembly or a subject unfinished LSPTV to produce an LSPTV. For purposes of this certification, a related entity is any entity that has a connection to the importer, whether through ownership, control, contracts, or close supplier/customer relationship.

G. I understand that {IMPORTING COMPANY} is required to submit a copy of the importer certification, the commercial invoice, and the bill of lading as part of the entry summary by uploading them into the document imaging system (DIS) in ACE, and to provide U.S. Customs and Border Protection (CBP) and/or the U.S. Department of Commerce (Commerce) with the importer certification, and any supporting documentation upon request of either agency.

H. I understand that {IMPORTING COMPANY} is required to maintain a copy of this certification and sufficient documentation supporting this certification (i.e., documents maintained in the normal course of business, or documents obtained by the certifying party) until the later of (1) the date that is five years after the latest entry date of the entries covered by the certification or (2) the date that is three years after the conclusion of any litigation in the United States courts regarding such entries.

I. I understand that the claims made herein, and the substantiating documentation, are subject to verification by CBP and/or Commerce.

J. I understand that failure to maintain the required certification and supporting documentation, or failure to substantiate the claims made herein, or not allowing CBP and/or Commerce to verify the claims made herein, may result in a de facto determination that all entries to which this certification applies are within the scope of the antidumping duty and countervailing duty orders on certain low speed personal transportation vehicles and subassemblies thereof from China. I understand that such finding will result in:

(i) suspension of liquidation of all unliquidated entries (and entries for which liquidation has not become final) for which these requirements were not met;

(ii) the importer being required to post the antidumping duty and countervailing duty cash deposits determined by Commerce; and

(iii) the importer no longer being allowed to participate in the certification process.

K. I understand that agents of the importer, such as brokers, are not permitted to make this certification.

L. This certification was completed by the time of filing the entry summary or within 45 days of the date on which Commerce published notice of its antidumping duty and countervailing duty orders on certain low speed personal transportation vehicles and subassemblies thereof from China in the Federal Register.

M. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Appendix III

List of Topics Discussed in the Issues and Decision Memorandum

I. Summary

II. Background

III. Final Affirmative Determination of Critical Circumstances, In Part

IV. Adjustment to Cash Deposit Rate for Export Subsidies

V. Separate Rates

VI. Changes Since the Preliminary Determination

VII. Discussion of the Issues

General Comments

Comment 1: Whether Commerce Should Reverse its Preliminary Finding of Critical Circumstances

Comment 2: Whether Commerce Should Continue Applying Cohen's D Test

Comment 3: Whether Commerce Should Revise the Surrogate Financial Ratios

Comment 4: Whether Commerce Should Revise its Separate Rate Calculation

Comment 5: Whether Commerce Should Value Certain Inputs on a Per-Piece Basis Instead of Per-Kilogram (Kg) Basis

Comment 6: Whether Commerce Should Revise its Selection of Surrogate Values (SVs) Used to Value Certain Factors of Production (FOPs)

Anhui Huaxin

Comment 7: Whether Anhui Huaxin Should be Granted a Separate Rate

Xiamen Dalle

Comment 8: Whether Commerce Should Deduct Certain Indirect Selling Expenses from Xiamen Dalle's U.S. Price

Comment 9: Whether Commerce Should Deduct Expenses Related to Replacement LSPTVs from Xiamen Dalle's U.S. Price

Comment 10: Whether Commerce Should Apply Further Manufacturing Costs to Models Further Manufactured Before the POI But Sold During the POI

Comment 11: Whether Commerce Should Recalculate Xiamen Dalle's Imputed Credit Expenses

Comment 12: Whether Commerce Should Continue Granting Xiamen Dalle a By-Product Offset

Comment 13: Whether Commerce Should Apply Partial Adverse Facts Available (AFA) with Respect to Unreported Puerto Rico Sales

Comment 14: Whether Commerce Abused its Discretion During the Sales Verification and Cancellation of Constructed Export Price (CEP) Sales Verification

Guangdong Lvtong

Comment 15: Whether Commerce Should Deduct Section 301 Duties from Guangdong Lvtong's Calculations

Comment 16: Whether Commerce Should Adjust the Consumption Rate for the STAINLESS_BOX FOP Reported for One of Guangdong Lvtong's Control Numbers (CONNUMs)

VIII. Recommendation

Appendix IV

Exporter/Producer Combinations Eligible for a Separate Rate

Exporter | Producer
1. Alwayz Electric Vehicle (Chuzhou) Co., Ltd | Alwayz Electric Vehicle (Chuzhou) Co., Ltd.
2. Dongguan Excar Electric Vehicle Co., Ltd | Dongguan Excar Electric Vehicle Co., Ltd.
3. GD Evtong New Tech Co., Ltd | Guangdong Yitong New Energey Technology Co., Ltd.
4. Greenman Electric Vehicles Co., Ltd | Greenman Electric Vehicles Co., Ltd.
5. Guangdong Marshell Electric Vehicle Co., Ltd | Guangdong Marshell Electric Vehicle Co., Ltd.
6. Guangdong Yatian Industrial Co., Ltd | Guangdong Yatian Industrial Co., Ltd.
7. Guangdong Yitong New Energy Technology Co., Ltd | Guangdong Yitong New Energy Technology Co., Ltd.
8. Guangzhou BorCart Electric Vehicle Co., Ltd | Guangzhou Langqing Electric Car Co., Ltd.
9. Guangzhou Langqing Electric Car Co., Ltd | Guangzhou Langqing Electric Car Co., Ltd.
10. Guangzhou Rariro Vehicle Co., Ltd | Guangzhou Rariro Vehicle Co., Ltd.
11. Guangzhou Sachs Bikes Technology Co., Ltd | LuckyRam Technology Co., Ltd.
12. Haike EV Co., Ltd | Shandong Haike Vehicle Technology Co., Ltd.
13. Jiangsu FMX Electric Vehicle Co., Ltd | Jiangsu FMX Electric Vehicle Co., Ltd.
14. Jiaxing Learoad Special Vehicle Co., Ltd | Jiaxing Learoad Special Vehicle Co., Ltd.
15. Kangdi Electric Vehicle (Hainan) Co., Ltd | Kangdi Electric Vehicle (Hainan) Co., Ltd.
16. Qingdao Beemotor New Energy Vehicle Co., Ltd | Shandong Haike Vehicle Technology Co., Ltd.
17. Qingdao Beemotor New Energy Vehicle Co., Ltd | Dezhou Fuqing Vehicle Industry Co., Ltd.
18. Shandong Qiaoke New Energy Auto Industry Co., Ltd | Shandong Qiaoke New Energy Auto Industry Co., Ltd.
19. Shandong Yongli New Energy Vehicle Industry Co., Ltd | Dachi Intelligent Automobile (Rizhao) Co., Ltd.
20. Shanghai Dachi Auto Power Co., Ltd | Dachi Intelligent Automobile (Rizhao) Co., Ltd.
21. Shanghai Helios New Energy Technology Co., Ltd | Wuxi Yaxi Electric Vehicle Sales Co., Ltd.
22. Shanghai Sirius International Trading Co., Ltd | Shanghai Sirius International Trading Co., Ltd.
23. Shanghai Yixing Power Technology Co., Ltd | Shanghai Yixing Power Technology Co., Ltd.
24. Shenzhen Aoxiang Industrial Development Co., Ltd | Shenzhen Aoxiang Industrial Development Co., Ltd.
25. Shenzhen Lento New Energy Electric Vehicle Co., Ltd | Guangdong Lantu Electric Vehicle Co., Ltd.
26. Suzhou Alwayz Electric Vehicle Manufacturing Co., Ltd | Suzhou Alwayz Electric Vehicle Manufacturing Co., Ltd.
27. Suzhou Eagle Electric Vehicle Manufacturing Co., Ltd | Suzhou Eagle Electric Vehicle Manufacturing Co., Ltd.
28. Suzhou Lexsong Electromechanical Equipment Co., Ltd | Wuxi Yaxi Electric Vehicle Co., Ltd.
29. Suzhou Lexsong Electromechanical Equipment Co., Ltd | Jiangsu Feimaxiang Technology Co., Ltd.
30. Suzhou Wintao Intelligent Technology Co., Ltd | Suzhou Wintao Intelligent Technology Co., Ltd.
31. Taiyuan Steel Engineering Corp., Ltd | Wuxi Yaxi Electric Vehicle Sales Co., Ltd.
32. Taizhou Yoki Carts Co., Ltd | Taizhou Yoki Carts Co., Ltd.
33. Top New Energy Technology (Dongguan) Co., Ltd | Guangdong Yitong New Energy Technology Co., Ltd.
34. Wuxi Hio Special Vehicle Co., Ltd | Wuxi Hio Special Vehicle Co., Ltd.
35. Wuxi Yaxi Electric Vehicle Sales Co., Ltd | Wuxi Yaxi Electric Vehicle Co., Ltd.
36. Xingtel Xiamen Group Co., Ltd | Xingtel Xiamen Group Co., Ltd.
37. Yangzhou Whanlong Electric Vehicle Co., Ltd | Yangzhou Whanlong Electric Vehicle Co., Ltd.
38. Zhejiang Taotao Vehicles Co., Ltd | Zhejiang Taotao Vehicles Co., Ltd.

[FR Doc. 2025-11428 Filed 6-20-25; 8:45 am]

BILLING CODE 3510-DS-P